DEPARTMENT OF ENERGY

Federal Energy Regulatory Commission

[Project No. 2030-000]

Portland General Electric Company; Notice of Technical Meeting

October 10, 2001.

a. Date and Time of Meeting: November 8, 2001; from 8:30 A.M. to 4:30 P.M.

b. Place: Maccie Conroy Center, Jefferson County Fair Complex, 430 SW Fairgrounds Road, Madras, Oregon.

c. FERC Contact: Nan Allen at (202) 219-2938; nan.allen@ferc.fed.us.

d. Purpose of the Meeting: The Federal Energy Regulatory Commission staff and consultants will attend a workshop presented by the Portland General Electric Company and the Confederated Tribes of the Warms Springs Reservation of Oregon. The presentation will cover topics related to the relicensing of the Pelton Round Butte Hydroelectric Project, FERC No. 2030-036.

e. Proposed Agenda: (A) Introductions; (B) Relicensing process; (C) Tribal Perspectives; (D) Overview of license application and proposed project operations; (E) Concurrent sessions: (1) Fisheries Resources and (2) Terrestrial, Recreation, Land and Aesthetic Resources; and (F) Cultural Resources.

f. All local, state, and Federal agencies, Indian Tribes, and interested parties, are hereby invited to attend this meeting as participants.

David P. Boergers,
Secretary.

[FR Doc. 01-25929 Filed 10-15-01; 8:45 am]

BILLING CODE 6717-01-P